DEPARTMENT OF THE INTERIOR

Bureau of Land Management

[BLM_WY_FRN_MO4500169700]

Notice of Intent To Prepare Resource Management Plans for the Newcastle Field Office, Wyoming, and Nebraska Planning Area and an Associated Environmental Impact Statement

AGENCY: Bureau of Land Management, Interior.

ACTION: Notice of intent.

SUMMARY: In compliance with the National Environmental Policy Act of 1969, as amended (NEPA), and the Federal Land Policy and Management Act of 1976, as amended (FLPMA), the Bureau of Land Management (BLM) Wyoming State Director intends to revise the Newcastle Field Office (NFO) and Nebraska Resource Management Plans (RMPs) and prepare an associated Environmental Impact Statement (EIS) and by this notice is announcing the beginning of the scoping period to solicit public comments and identify issues, providing the planning criteria for public review, and issuing a call for nominations for areas of critical environmental concern (ACECs). The RMP revision would replace the existing Newcastle and Nebraska RMPs.

DATES: The BLM requests the public submit comments concerning the scope of the analysis, potential alternatives, and identification of relevant information, studies, and ACEC nominations by August 10, 2023. To afford the BLM the opportunity to consider issues and ACEC nominations raised by commenters to the Draft RMPs/EIS, please ensure your comments are received prior to the close of the 30-day scoping period or 15 days after the last public meeting, whichever is later.

ADDRESSES: You may submit comments on issues and planning criteria related to Newcastle and Nebraska RMPs and nominations of new ACECs by any of the following methods:

• Website: https://eplanning.blm.gov/eplanning-ui/project/2013064/510

• Email: BLM_WY_Newcastle_Nebraska_RMP@blm.gov

• Fax: (307) 261-7639

• Mail: BLM, High Plains District Office, 2987 Prospector Drive, Casper, WY 82604

Documents pertinent to this proposal may be examined online at https://eplanning.blm.gov/eplanning-ui/project/2013064/510 and at the Newcastle Field Office.

FOR FURTHER INFORMATION CONTACT: Kathleen T. Lacko, Project Manager, telephone (307) 261-7536; address BLM High Plains District Office, 2987 Prospector Drive, Casper, WY 82604; email ktlacko@blm.gov. Contact Ms. Lacko to have your name added to our mailing list. Individuals in the United States who are deaf, deafblind, hard of hearing, or have a speech disability may dial 711 (TTY, TDD, or TeleBraille) to access telecommunications relay services for contacting Ms. Lacko. Individuals outside the United States should use the relay services offered within their country to make international calls to the point-of-contact in the United States.

SUPPLEMENTARY INFORMATION: This document provides notice that the BLM intends to prepare two RMPs and an associated EIS for the Newcastle Field Office and Nebraska planning areas, announces the beginning of the scoping process, seeks public input on issues and planning criteria, and invites the public to nominate ACECs. The planning areas are located in Crook, Weston, and Niobrara counties in Wyoming and all counties in Nebraska, encompassing approximately 287,900 acres of surface lands and 1,738,900 acres of Federal mineral estate in Wyoming and approximately 5,100 acres of surface lands and 223,900 acres of Federal mineral estate in Nebraska.

Purpose and Need for the RMPs

The purpose of the Newcastle and Nebraska RMPs/EIS are to provide a comprehensive framework to guide management of BLM-administered surface land in the planning areas. The RMPs/EIS will incorporate new data, address land use issues and conflicts, and specify where and under what circumstances activities would be allowed on BLM-administered surface lands. The objectives, land use allocations, and management decisions will be based on the principles of multiple use and sustained yield, except where a tract of such public land has been dedicated to specific uses according to another provision of law. All management direction must meet the objectives of the BLM's multiple use management mandate and responsibilities under FLPMA Section 202(c) and (e) and is subject to valid existing rights.

The NFO has determined updates are needed for the two RMPs it relies on to manage the public land and Federal mineral estate in the planning areas. Assessments of these plans showed they require updating to address new information and changes to resources and resource uses within the planning area since the BLM approved the NFO RMP in 2000 and completed the Nebraska RMP in 1992. The revised RMPs will replace the existing Newcastle RMP/Record of Decision (ROD) and Nebraska RMP/ROD.

Preliminary Alternatives

The BLM has identified the four following preliminary alternatives for analysis in the EIS. Generally, these alternatives include:

• Alternative A—No Action: Continue existing management under the existing Newcastle and Nebraska RMPs.

• Alternative B—Resource Protection Emphasis: Emphasizes conservation, including ACEC designations.

• Alternative C—Maximizes Resource Use: Emphasizes resource use and includes the fewest protected areas and restrictions to resource uses.

• Alternative D—Balances Resource Protection and Use: Multiple use focus with prescriptive actions to allow protections with more flexibility. Balances conservation and resource use.

The BLM welcomes comments on all preliminary alternatives as well as suggestions for additional alternatives.

Planning Criteria

The planning criteria guide the planning effort and lay the groundwork for effects analysis by identifying the preliminary issues and their analytical frameworks. Preliminary issues for the planning areas have been identified by BLM personnel and from early engagement conducted for this planning effort with Federal, State, and local agencies; Tribes; and stakeholders. The BLM has identified the following preliminary issues for this planning effort's analysis: Minerals and energy development, vegetation management, fish and wildlife habitat, air quality, recreation, livestock grazing, lands and realty authorizations, land tenure adjustments, recreation, and special management areas, including ACEC nominations.

The planning criteria are available for public review and comment at the ePlanning website (see ADDRESSES). Preliminary planning criteria identified include:

• The plans will be completed in compliance with FLPMA and all other applicable laws.

• The plans will recognize valid existing rights.

• The planning process will include an EIS that will comply with NEPA.

• The plans will establish new guidance and identify existing guidance upon which the BLM will rely in managing public lands within the NFO and Nebraska.

• The planning process will include early coordination and Endangered Species Act consultation meetings with the U.S. Fish and Wildlife Service during the development of the plans.

• The plans will recognize the States' responsibility for managing wildlife populations, including uses such as hunting and fishing, within the planning areas.

• The planning process would involve Indian Tribal governments and Tribal leaders and would provide strategies for the protection of recognized traditional and cultural uses.

• Decisions in the plans will strive to be consistent with the existing plans and policies of adjacent local, State, Tribal, and Federal agencies as long as those plans and policies are consistent with the purposes, policies, and programs of Federal law and regulations applicable to the public lands.

Summary of Expected Impacts

The EIS will analyze impacts in the Newcastle and Nebraska planning areas using three alternatives and a no action alternative. There are no known significant impacts identified at this stage of the planning effort.

Schedule for the Decision-Making Process

The BLM will provide additional opportunities for public participation consistent with the NEPA and land use planning processes, including a 90-day comment period on the Draft RMPs/EIS and a concurrent 30-day public protest period and a 60-day Governor's consistency review on the Proposed RMPs. The Draft RMPs/EIS are anticipated to be available for public review in December 2023 and the Proposed RMPs/Final EIS are anticipated to be available for public protest in September 2024, with Approved RMPs and a Record of Decision in December 2024.

Public Scoping Process

This notice of intent initiates the scoping period and public review of the planning criteria, which guide the development and analysis of the Draft RMPs/EIS. A series of public meetings will be held in the planning areas. The BLM held a series of early engagement public meetings in May, 2023, and will hold one virtual public meeting during the scoping period. The specific date of the virtual scoping meeting will be announced at least 15 days in advance through local media, BLM Wyoming social media, ePlanning project page (see ADDRESSES), and the BLM website (see ADDRESSES).

ACECs

The following ACEC is currently designated in the planning areas: Whoopup Canyon ACEC in Wyoming, consisting of approximately 1,440 acres. Whoopup Canyon ACEC has rare and sensitive archaeological resources of religious and cultural concern to Native Americans for unique petroglyphs that date from the end of the Pleistocene era and overlap in time with the oldest Paleoindian sites in North America. The BLM will reevaluate existing the designated ACEC in the Draft RMPs/EIS to determine if relevant and important values still exist and analyze whether to retain its designation. During preplanning and early engagement, the BLM identified the Little Missouri Antelope Trap as an ACEC for consideration of designation, consisting of 9,500 acres, due to its rare and sensitive archaeological resources and religious and cultural values to Native American Tribes. The BLM may also propose an expansion to the existing Whoopup Canyon ACEC, consisting of an additional 240 acres.

This notice invites the public to nominate additional areas for ACEC consideration. To assist the BLM in evaluating nominations for consideration in the Draft RMPs/EIS, please provide supporting descriptive materials, maps, and evidence of the relevance and importance of resources or hazards by the close of the public comment period in order to facilitate timely evaluation (see DATES and ADDRESSES). The BLM has identified the anticipated issues related to the consideration of ACECs in the planning criteria.

Cooperating Agencies

U.S. Fish and Wildlife Service; U.S. Environmental Protection Agency; Wyoming State Governor's Office; Wyoming Game and Fish Department; Wyoming Department of Agriculture; Wyoming Office of State Lands and Investments; Wyoming Department of Transportation; Wyoming Department of Environmental Quality; Wyoming Cultural Resources; Wyoming State Engineers Office; Wyoming State Parks, Historic Sites and Trails; Wyoming State Forestry; Wyoming State Geological Survey; Wyoming State Historic Preservation Office; Crook County Commissioner; Crook County Conservation District; Weston County Commissioner; Weston County Conservation District; Niobrara County Commissioner; Niobrara Conservation District; and Nebraska Oil and Gas Conservation Commission.

Responsible Official

The Wyoming State Director is the deciding official for this planning effort.

Nature of Decision To Be Made

The nature of the decision to be made will be the State Director's selection of land use planning decisions for managing BLM-administered lands under the principles of multiple use and sustained yield in a manner that best addresses the purpose and need.

Interdisciplinary Team

The BLM will use an interdisciplinary approach to develop the plans to consider the variety of resource issues and concerns identified. Specialists with expertise in the following disciplines will be involved in this planning effort: Air Resources, Geology and Minerals, Petroleum Engineer, GIS Specialist, Soils, Water Resources, Vegetation (including Special Status Species), Wildlife (including Special Status Species), Cultural Resources, Paleontological Resources, Special Designations, Visual Resources, Wildland Fire Management, Renewable Energy, Travel Management & Recreation, Lands and Realty, Livestock Grazing, Tribal Interests, Public Safety, Socioeconomics, and Environmental Justice.

Additional Information

The BLM will identify, analyze, and consider mitigation to address the reasonably foreseeable impacts to resources from the proposed plans and all analyzed reasonable alternatives and, in accordance with 40 CFR 1502.14(e), include appropriate mitigation measures not already included in the proposed plans or alternatives. Mitigation may include avoidance, minimization, rectification, reduction or elimination over time, and compensation, and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribal Nations on a government-to-government basis in accordance with Executive Order 13175, BLM MS 1780, and other Departmental policies. The BLM will send invitations to potentially affected Tribal Nations prior to consultation meetings. The BLM will provide additional opportunities for government-to-government consultation during the NEPA process. Tribal concerns, including impacts on Indian trust assets and potential impacts to cultural resources, will be given due consideration. Federal, State, and local agencies, along with Indian Tribal Nations and other stakeholders that may be interested in or affected by the proposed plans that the BLM is evaluating, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Andrew S. Archuleta,
State Director.

[FR Doc. 2023-14519 Filed 7-10-23; 8:45 am]

BILLING CODE 4331-26-P